DEPARTMENT OF TRANSPORTATION

Surface Transportation Board

[STB Finance Docket No. 34095]

Allegheny Valley Railroad Company-Lease and Operation Exemption-Line of CSX Transportation, Inc.

Allegheny Valley Railroad Company (AVR), a Class III rail carrier, has filed a notice of exemption under 49 CFR 1150.41 to lease and operate, pursuant to an agreement with CSX Transportation, Inc. (CSXT), approximately 0.75 miles of rail line. The subject line (known as CSXT's River Branch) extends between approximately milepost 0.75 near 33rd Street and approximately milepost 0.00 near 43rd Street in the City of Pittsburgh, Allegheny County, PA. AVR certifies that its projected revenues as a result of this transaction will not result in its becoming a Class I or a Class II rail carrier.

The transaction was scheduled to be consummated on or after September 14, 2001, the effective date of the exemption.

If the notice contains false or misleading information, the exemption is void ab initio. Petitions to revoke the exemption under 49 U.S.C. 10502(d) may be filed at any time. The filing of a petition to revoke will not automatically stay the transaction.

An original and 10 copies of all pleadings, referring to STB Finance Docket No. 34095, must be filed with the Surface Transportation Board, Office of Secretary, Case Control Unit, 1925 K Street, NW., Washington, DC 20423-0001. In addition, one copy of each pleading must be served on Kevin M. Sheys, Kirkpatrick & Lockhart LLP, 1800 Massachusetts Avenue, 2nd Floor, Washington, DC 20036.

Board decisions and notices are available on our Web site at www.stb.dot.gov.

Decided: September 19, 2001.
By the Board, David M. Konschnik, Director, Office of Proceedings.
Vernon A. Williams,
Secretary.

[FR Doc. 01-23964 Filed 9-26-01; 8:45 am]

BILLING CODE 4915-00-P